DEPARTMENT OF DEFENSE

Department of the Navy

[USN-2008-0010]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on March 31, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 25, 2008.
L.M. Bynum,
Alternate OSD Federal Register Liaison Officer, Department of Defense.

NM05100-4

SYSTEM NAME:

Driver Record Monitoring System (DRMS) (February 13, 2008, 73 FR 8298).

CHANGES:

* * * * *

SYSTEM IDENTIFIER:

Delete “NM05100-4” and replace with “NM05100-6”.

* * * * *

NM05100-6

SYSTEM NAME:

Driver Record Monitoring System (DRMS).

SYSTEM LOCATION:

Primary Location: SAMBA Holdings, 1730 Montano Road NW., Albuquerque, NM 87101-3200.

Secondary Locations: Navy and Marine Corps activities. Official mailing addresses as published in the Standard Navy Distribution List that is available at: http://doni.daps.dla.mil/sndl.aspx.

CATEGORIES OF INDIVIDUALS COVERED BY THE SYSTEM:

Navy and Marine Corps active duty and reserve personnel with a driver's license issued by a U.S. state or territory.

CATEGORIES OF RECORDS IN THE SYSTEM:

Name, date of birth, driver's license number, state of license, pay grade, sex, and state driving records/histories.

AUTHORITY FOR MAINTENANCE OF THE SYSTEM:

10 U.S.C. 5013, Secretary of the Navy; 10 U.S.C. 5041, Headquarters, Marine Corps; and 18 U.S.C. 2721, Drivers Privacy Protection Act.

PURPOSE(S):

To identify Navy and Marine Corps members (officers and enlisted) whose driving habits may indicate they pose a threat to health/safety and identify required training, counseling, mentoring, etc., that would result in preventing future accidents.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To provide state department of motor vehicles offices with the full names, state of driver license, driving license numbers, sex, and dates of birth of Navy and Marine Corps personnel for purpose of identifying and collecting driving records/histories for use by Navy and Marine Corps personnel.

The DoD `Blanket Routine Uses' that appear at the beginning of the Navy's compilation of system of record notices also apply to this system.

POLICIES AND PRACTICES FOR STORING, RETRIEVING, ACCESSING, RETAINING, AND DISPOSING OF RECORDS IN THE SYSTEM:

STORAGE:

Paper and automated records.

RETRIEVABILITY:

Name and driver's license number.

SAFEGUARDS:

Computer facilities and terminals are located in areas accessible only by authorized personnel who are properly screened, cleared, and trained to work with automated systems of records. Computer terminals are protected by passwords, unique user IDs, and applicable layers of security access within the applications. Electronic and paper computer printouts and reports are made available only to authorized personnel having an official need-to-know.

RETENTION AND DISPOSAL:

Records are destroyed two years after individual completes program.

SYSTEM MANAGER(S) AND ADDRESS:

Marine Corps: Commandant of the Marine Corps, Safety Division, Ground Branch, 2 Navy Annex, Washington, DC 20380-1775.

Navy: Commander, Naval Surface Forces (N41IH), 2841 Rendova Road, San Diego, CA 92155-5490.

Record Holders: Organizational elements of the Department of the Navy. Official mailing addresses are published in the Standard Navy Distribution List that is available at http://doni.daps.dla.mil/sndl.aspx.

NOTIFICATION PROCEDURE:

Individuals seeking to determine whether information about themselves is contained in this system of records should address written inquiries to their commanding officer. Official mailing addresses are published in the Standard Navy Distribution List that is available at http://doni.daps.dla.mil/sndl.aspx.

Written requests should contain the member's full name and signature of the requester.

RECORD ACCESS PROCEDURES:

Individuals seeking access to information about themselves contained in this system of records should address written inquiries to their commanding officer. Official mailing addresses are published in the Standard Navy Distribution List that is available at http://doni.daps.dla.mil/sndl.aspx.

Written requests should contain the member's full name and signature of the requester.

CONTESTING RECORD PROCEDURES:

The Navy's rules for contesting contents and appealing initial agency determinations are published in Secretary of the Navy Instruction 5211.5; 32 CFR part 701; or may be obtained from the System of Records Manager.

RECORD SOURCE CATEGORIES:

Individual; driving records; and activity records.

EXEMPTIONS CLAIMED FOR THE SYSTEM:

None.

[FR Doc. E8-3915 Filed 2-28-08; 8:45 am]

BILLING CODE 5001-06-P